DEPARTMENT OF HEALTH AND HUMAN SERVICES

Administration for Children and Families

Proposed Information Collection Activity; Comment Request

Proposed Projects

Title: Compassion Capital Fund Evaluation.

OMB No.: New Collection.

Description: This proposed information collection activity is for two rounds of surveys to be completed by faith-based and community organizations participating in the Compassion Capital Fund (CCF) evaluation project. The first survey will be conducted as a baseline survey and the second will be a follow-up survey conducted several months later.

The CCF evaluation is an important opportunity to examine the effectiveness of the Compassion Capital Fund in meeting its objective of improving the capacity of faith-based and community organizations. The evaluation will involve up to 1,000 faith-based and community organizations that seek services from CCF-funded intermediary organizations. Information will be collected from these faith-based and community-based organizations to assess change and improvement in various areas of capacity. The study design includes the random assignment of faith-based and community organizations to either a treatment group that receives capacity-building services from a CCF intermediary grantee or to a control group that does not. The impact of the services provided by intermediaries, primarily through sub-awards and/or technical assistance (TA), will be determined by comparing the changes in organizational and service capacity of the recipient organizations with those of the control group.

Respondents: The respondents for both the baseline and follow-up data collection will be faith-based and community organizations that seek sub-awards or TA from selected CCF intermediary grantees. The baseline survey will be primarily self-administered and is expected to be completed as part of the intermediary's sub-award application or TA request process. The follow-up survey also will be primarily self-administered and contain questions similar to those in the baseline survey as well as additional questions related to services received from the intermediary or other organizations. It is expected that the follow-up survey will be administered approximately 9-12 months after random assignment. As needed to increase response rates, the survey will be administered by telephone to organizations that do not initially return a completed survey.

Instrument | Number of respondents | Number of responses per respondent | Average burden hours per response | Total burden hours
Baseline Survey | 1,000 |  | 1.33 hours (20 minutes) | 330
Follow-up Survey | 1,000 |  | 1.42 hours (25 minutes) | 420
Estimated Total Annual Burden Hours |  |  |  | 750

Annual Burden Estimates

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447. Attn: ACF Reports Clearance Officer. E-mail address: grjohnson@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents. Consideration will be given to comments and suggestions submitted within 60 days of this publication.

Dated: April 11, 2005.
Robert Sargis,
Reports Clearance Officer.

[FR Doc. 05-7517 Filed 4-13-05; 8:45 am]

BILLING CODE 4184-01-M